DEPARTMENT OF THE TREASURY

Agency Information Collection Activities; Submission for OMB Review; Comment Request; Multiple Internal Revenue Service (IRS) Information Collection Requests

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before September 26, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: Form 3115, Application for Change in Accounting Method.

OMB Number: 1545-2070.

Form Number: Form 3115.

Abstract: Internal Revenue Code (IRC) section 446(e) provides that a taxpaying entity that changes its method of accounting for computing taxable income must first secure the consent of the Secretary. The taxpayer uses Form 3115 to obtain this consent.

Current Actions: There are no changes being made to the form at this time.

Type of Review: Extension of a currently approved collection.

Affected Public: Estates, trusts, and not-for-profit institutions.

Estimated Number of Responses: 183.

Estimated Time per Respondent: 99.99 hours.

Estimated Total Annual Burden Hours: 18,298.

2. Title: Health Insurance Marketplace Statement.

OMB Number: 1545-2232.

Form Number: Form 1095-A.

Abstract: The IRS developed Form 1095-A under the authority of ICR section 36B(f)(3) for individuals to compute the amount of premium tax credit to which they are entitled under the Patient Protection and Affordable Care Act, Public Law 111-148, as amended, and file an accurate tax return. Marketplaces also must report certain information monthly to the IRS about individuals who receive from the Marketplace a certificate of exemption from the individual shared responsibility provision.

Current Actions: There is no change to this existing collection.

Type of Review: Extension of a currently approved collection.

Affected Public: State, local, or tribal government.

Estimated Number of Respondents: 3,250,000.

Estimated Time per Respondent: 20 seconds.

Estimated Total Annual Burden Hours: 16,250.

3. Title: Information Reporting by Applicable Large Employers on Health Insurance Coverage Offered Under Employer-Sponsored Plans.

OMB Number: 1545-2251.

Form Number: Forms 1099-C, 1095-C, and 4423.

Abstract: Applicable Large Employer Members (ALE Members) use Forms 1094-C and 1095-C to report the information required under Internal Revenue Code sections 6055 and 6056 regarding offers of health coverage and enrollment in health coverage for their full-time employees.

Form 4423 is used when a company is a foreign filer that does not have an Employer Identification Number (EIN) and cannot use the electronic application process to apply for an Affordable Care Act Transmitter Control Code.

Current Actions: There is no change to the existing collection. However, the estimated number of responses was updated based on current filing data.

Type of Review: Extension of a currently approved collection.

Affected Public: Individuals or households, Business or other for-profit, and not-for-profit entities.

Estimated Number of Responses: 123,234,664.

Estimated Time per Respondent: 4 hours for Form 1094-C, 12 minutes for Form 1095-C, 20 minutes for Form 4423.

Estimated Total Annual Burden Hours: 26,890,001.

Authority: 44 U.S.C. 3501 et seq.

Melody Braswell,
Treasury PRA Clearance Officer.

[FR Doc. 2024-19246 Filed 8-26-24; 8:45 am]

BILLING CODE 4830-01-P